DEPARTMENT OF TRANSPORTATION

Surface Transportation Board

[STB Finance Docket No. 34362]

Akron Barberton Cluster Railway Company—Lease and Operation Exemption—Metro Regional Transit Authority

Akron Barberton Cluster Railway Company (ABC), a Class III rail carrier, has filed a verified notice of exemption under 49 CFR 1150.41 et seq. to lease, from Metro Regional Transit Authority (METRO), and operate a freight rail easement between approximately milepost 40.42 (valuation station 1856+40) near Howard Street in Akron, OH and approximately milepost 33.70 (valuation station 2206+60) at Krumroy, OH, a distance of approximately 6.72 miles in Summit County, OH.

This transaction is related to STB Finance Docket No. 34361, Metro Regional Transit Authority—Acquisition Exemption—Certain Assets of CSX Transportation, Inc., wherein METRO has filed a notice of exemption under 49 CFR 1150.31 et seq. to acquire the rail easement from CSX Transportation, Inc. (CSXT), the current rail carrier on the line involved here. ABC will replace CSXT in providing all rail freight service on the line.

Consummation of the transaction was expected to occur on or shortly after June 20, 2003, the effective date of this exemption.

ABC certifies that the projected annual revenues as a result of the transaction will not exceed $5 million, and thus the transaction will not result in the creation of a Class II or Class I rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34362, must be filed with the Surface Transportation Board, 1925 K Street, NW., Washington, DC 20423-0001. In addition, a copy of each pleading must be served on William C. Sippel, Fletcher & Sippel, LLC, Two Prudential Plaza, Suite 3125, 180 North Stetson Ave., Chicago, IL 60601-6721.

Board decisions and notices are available on our Web site at http://www.stb.dot.gov.

Decided: July 2, 2003.
By the Board, Joseph H. Dettmar, Acting Director, Office of Proceedings.
Vernon A. Williams,
Secretary.

[FR Doc. 03-17468 Filed 7-10-03; 8:45 am]

BILLING CODE 4915-01-P